DEPARTMENT OF HEALTH AND HUMAN SERVICES

Administration for Children and Families

Proposed Information Collection Activity; Administration for Native Americans Project Outcome Assessment Survey; (OMB #0970-0379)

AGENCY: Administration for Native Americans, Administration for Children and Families, HHS.

ACTION: Request for public comment.

SUMMARY: The Administration for Children and Families (ACF) is requesting a 3-year extension of the form Administration for Native Americans (ANA) Project Outcome Assessment Survey (OMB #0970-0379, expiration 6/30/2022). There are minor updates and changes requested to the form.

DATES: Comments due within 60 days of publication. In compliance with the requirements of the Paperwork Reduction Act of 1995, ACF is soliciting public comment on the specific aspects of the information collection described above.

ADDRESSES: You can obtain copies of the proposed collection of information and submit comments by emailing infocollection@acf.hhs.gov. Identify all requests by the title of the information collection.

SUPPLEMENTARY INFORMATION: Description: The information collected by the Project Outcome Assessment Survey is needed for two main reasons: (1) To collect crucial information required to report on the ANA established Government Performance and Results Act measures, and (2) to properly abide by ANA's congressionally mandated statute (42 U.S.C. 2991 et seq.) found within the Native American Programs Act of 1974, as amended, which states that ANA will evaluate projects assisted through ANA grant dollars “including evaluations that describe and measure the impact of such projects, their effectiveness in achieving stated goals, their impact on related programs, and their structure and mechanisms for delivery of services.” The information collected with this survey will fulfill ANA's statutory requirement and will also serve as an important planning and performance tool for ANA.

Updates to this information collection address the Indian Community Economic Enhancement Act of 2020 (Pub. L. 116-261). It also addresses the flexibilities and assistance offered under COVID-19 recovery assistance.

Respondents: Tribal Governments, Native American nonprofit organizations, and Tribal Colleges and Universities.

Annual Burden Estimates
Instrument | Number of respondents | Number of responses per respondent | Average burden hours per response | Total burden hours
ANA Project Outcome Assessment Survey | 85 | 1 | 6 | 510

Estimated Total Annual Burden Hours: 510.

Comments: The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

(Authority: 42 U.S.C. 2992)

Mary B. Jones,
ACF/OPRE Certifying Officer.

[FR Doc. 2022-01286 Filed 1-21-22; 8:45 am]

BILLING CODE 4184-34-P